DEPARTMENT OF THE INTERIOR

Fish and Wildlife Service

Issuance of Permits

AGENCY: Fish and Wildlife Service, Interior.

ACTION: Notice of issuance of permit for marine mammals.

SUMMARY: The following permit was issued.

ADDRESSES: Documents and other information submitted with this application are available for review, subject to the requirements of the Privacy Act and Freedom of Information Act, by any party who submits a written request for a copy of such documents to: U.S. Fish and Wildlife Service, Division of Management Authority, 4401 North Fairfax Drive, Room 700, Arlington, Virginia 22203; fax (703) 358-2281.

FOR FURTHER INFORMATION CONTACT: Division of Management Authority, telephone (703) 358-2104.

SUPPLEMENTARY INFORMATION: Notice is hereby given that on the dates below, as authorized by the provisions of the Endangered Species Act of 1973, as amended (16 U.S.C. 1531, et seq.), and the Marine Mammal Protection Act of 1972, as amended (16 U.S.C. 1361, et seq.), the Fish and Wildlife Service issued the requested permit subject to certain conditions set forth therein.

Marine Mammals
Permit No. | Applicant | Receipt of application Federal Register notice | Permit issuance date
095276 | California Department of Fish and Game, Marine Wildlife Veterinary Care and Research Center | 69 FR 68968; November 26, 2005 | February 4, 2005.

Dated: March 4, 2005.
Lisa J. Lierheimer,
Senior Permit Biologist, Branch of Permits, Division of Management Authority.

[FR Doc. 05-4977 Filed 3-11-05; 8:45 am]

BILLING CODE 4310-55-P